DEPARTMENT OF AGRICULTURE

Animal and Plant Health Inspection Service

[Docket No. APHIS-2011-0028]

Importation of Fresh Bananas From the Philippines Into the Continental United States; Availability of an Environmental Assessment

AGENCY: Animal and Plant Health Inspection Service, USDA.

ACTION: Notice of availability and request for comments.

SUMMARY: We are advising the public that we have prepared an environmental assessment relative to our recent proposal to allow the importation of fresh bananas from the Philippines into the continental United States. The environmental assessment documents our review and analysis of environmental impacts associated with the proposed action. We are making this environmental assessment available to the public for review and comment.

DATES: We will consider all comments that we receive on or before June 29, 2012.

ADDRESSES: You may submit comments by either of the following methods:

• Federal eRulemaking Portal: Go to http://www.regulations.gov/#!documentDetail;D=APHIS-2011-0028-0001.

• Postal Mail/Commercial Delivery: Send your comment to Docket No. APHIS-2011-0028, Regulatory Analysis and Development, PPD, APHIS, Station 3A-03.8, 4700 River Road Unit 118, Riverdale, MD 20737-1238.

The proposed rule, environmental assessment, other supporting documents, and any comments we receive may be viewed at http://www.regulations.gov/#!docketDetail;D=APHIS-2011-0028 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Ms. Meredith Jones, Regulatory Coordination Specialist, PPQ, RPM, RCC, APHIS, 4700 River Road Unit 39, Riverdale, MD 20737-1231; (301) 851-2289.

SUPPLEMENTARY INFORMATION:

Background

In a proposed rule ¹ titled “Importation of Fresh Bananas from the Philippines into the Continental United States” and published in the Federal Register on April 16, 2012 (77 FR 22510-22514, Docket No. APHIS-2011-0028), we proposed to amend the regulations in 7 CFR part 319 to allow the importation of fresh bananas from the Philippines into the continental United States. We initiated this proposal in response to a request from the national plant protection organization (NPPO) of the Philippines.

¹ To view the proposed rule, the environmental assessment, and the pest risk assessment, go to http://www.regulations.gov/#!docketDetail;D=APHIS-2011-0028.

To determine the potential pest risks inherent in allowing importation of fresh bananas from the Philippines, and to determine measures that might be effective in mitigating the pest risk, APHIS prepared a pest risk assessment and a risk management analysis. Based on the results of those studies, the proposed rule describes a systems approach under which bananas from the Philippines would have to be produced, packed, and transported in order to mitigate the potential risks associated with the importation. The systems approach is considered to be an appropriate safeguard to ensure that consignments of bananas from the Philippines would have a low likelihood of containing fruit with the potential to cause the introduction of a plant pest into the United States.

APHIS' review and analysis of the potential environmental impacts associated with allowing the importation of fresh bananas from the Philippines into the continental United States are documented in detail in an environmental assessment entitled “Importation of Bananas (Musa spp.) from the Philippines into the Continental United States” (April 2012). We are making this environmental assessment available to the public for review and comment. We will consider all comments that we receive on or before the date listed under the heading DATES at the beginning of this notice.

The environmental assessment may be viewed on the Regulations.gov Web site or in our reading room (see ADDRESSES above for a link to Regulations.gov and information on the location and hours of the reading room). You may request paper copies of the environmental assessment by calling or writing to the person listed under FOR FURTHER INFORMATION CONTACT. Please refer to the title of the environmental assessment when requesting copies.

The environmental assessment has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372).

Done in Washington, DC, this 23rd day of May 2012.
Kevin Shea,
Acting Administrator, Animal and Plant Health Inspection Service.

[FR Doc. 2012-13057 Filed 5-29-12; 8:45 am]

BILLING CODE 3410-34-P